DEPARTMENT OF COMMERCE

National Oceanic and Atmospheric Administration

[RTID 0648-XA262]

New England Fishery Management Council; Public Meeting; Correction

AGENCY: National Marine Fisheries Service (NMFS), National Oceanic and Atmospheric Administration (NOAA), Commerce.

ACTION: Notice of a correction to a public meeting.

SUMMARY: The New England Fishery Management Council (Council) is scheduling a joint public meeting of its Ecosystem-Based Fishery Management (EBFM) Committee via webinar to consider actions affecting New England fisheries in the exclusive economic zone (EEZ). Recommendations from this group will be brought to the full Council for formal consideration and action, if appropriate.

DATES: This webinar will be held on Tuesday, July 21, 2020 at 9.30 a.m. Webinar registration URL information: https://attendee.gotowebinar.com/register/3710429939133088527.

ADDRESSES: The meeting will be held via webinar.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION: The original notice published in the Federal Register on July 2, 2020 (85 FR 39886). The original notice stated the meeting would be held on July 16, 2020. This notice corrects the date of the meeting to be held on July 21, 2020. All other previously published information remains the same.

Authority: 16 U.S.C. 1801 et seq.

Dated: July 2, 2020.
Tracey L. Thompson,
Acting Deputy Director, Office of Sustainable Fisheries, National Marine Fisheries Service.

[FR Doc. 2020-14700 Filed 7-7-20; 8:45 am]

BILLING CODE 3510-22-P